DEPARTMENT OF DEFENSE

Office of the Secretary

[Docket ID. DoD-2010-OS-0111]

Proposed Collection; Comment Request

AGENCY: Office of the Under Secretary of Defense (Personnel and Readiness), DoD.

ACTION: Notice.

SUMMARY: In compliance with section 3506(c)(2)(A) of the Paperwork Reduction Act of 1995, the Office of the Under Secretary of Defense (Personnel and Readiness) announces the following proposed public information collection and seeks public comment on the provisions thereof. Comments are invited on: Whether the proposed collection of information is necessary for the proper performance of the functions of the agency, including whether the information shall have practical utility; the accuracy of the agency's estimate of burden of the proposed information collection; ways to enhance the quality, utility, and clarity of the information to be collected; and ways to minimize the burden of the information collection on respondents, including through the use of automated collection techniques or other forms of information technology.

DATES: Consideration will be given to all comments received by October 12, 2010.

ADDRESSES: You may submit comments, identified by docket number and title, by any of the following methods:

• Federal eRulemaking Portal: http://www.regulations.gov. Follow the instructions for submitting comments.

• Mail: Federal Docket Management System Office, 1160 Defense Pentagon, Room 3C843, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection, or to obtain a copy of the proposal and associated collection instruments, please write to the Office of the Under Secretary of Defense (Personnel and Readiness), Department of Defense Education Activity (Policy and Legislation), ATTN: J. Michael Lynch, 4040 North Fairfax Drive, Arlington, VA 22203 or call (703) 588-3201.

Title, Associated Form, and OMB Control Number: Department of Defense Education Activity Student Registration; DoDEA Form 600; OMB Number 0704-TBD.

Needs and Uses: This information collection is necessary to obtain information about Department of Defense military and civilian sponsors and the dependents they wish to enroll in a Department of Defense Education Activity (DoDEA) school. The information gathered on the sponsors is used to determine their dependents' enrollment eligibility to attend the DoDEA schools and their enrollment category, (i.e., whether the sponsors' dependents are authorized to enroll on a tuition-free or tuition-paying and space-required or space-available basis). Information gathered about students is used to verify age; determine, class and transportation schedules; record attendance, absence and withdrawal; record and monitor student progress, grades, course and grade credits, educational services and placement, activities, awards, special interest and accomplishments.

Affected Public: Individuals or households; business or other for-profit; not-for-profit institutions; Federal Government personnel and/or Federal contractors. Respondents are not required to keep records.

Annual Burden Hours: 35,627.

Number of Respondents: 71,254.

Responses per Respondent: 1.

Average Burden per Response: 30 minutes.

Frequency: One time for school registration.

SUPPLEMENTARY INFORMATION:

Summary of Information Collection

The primary objective of the information collection is to determine that DoDEA has all the information it requires to make available a quality education, from prekindergarten through grade 12, for the eligible dependents of the Department of Defense (DoD) military and civilian personnel on official assignments. The DoDEA Form 600 secures data about each sponsor who enrolls a child in a DoDEA school to determine the child's eligibility for enrollment. Eligibility for enrollment depends on whether the sponsor is a member of the Armed Forces or a civilian employee of the DoD, and which component thereof (Armed Forces or DoD) he or she is a member; or is an employee of another Federal Agency; or is a DoD contractor; or whether the sponsor is a U.S. citizen or a foreign national; and whether the sponsor is assigned overseas or to an military installation in the U.S. Eligibility also depends on whether the student is a dependent of a member of the Armed Forces or of the Federal Government who is authorized Federally funded transportation to an overseas assignment, or is authorized residence on a domestic U.S. military installation. The DoDEA Form 600 also secures information about each enrolled student to ensure that DoDEA makes available the appropriate classrooms, staffing, and supportive services. The data collected on the DoDEA Form 600, “DoDEA Student Registration,” is covered by the DoDEA System of Records Notice DoDEA 26 available at: http://privacy.defense.gov/notices/osd/DODEA26.shtml, “Department of Defense Education Activity Dependent Children's School Program Files.” The paper forms and electronic data systems containing the sponsor and dependent personally identifying information are secured in accordance with the requirements of Federal law and implementing DoD regulations.

Dated: August 6, 2010.
Mitchell S. Bryman,
Alternate OSD Federal Register Liaison Officer, Department of Defense.

[FR Doc. 2010-19789 Filed 8-10-10; 8:45 am]

BILLING CODE 5001-06-P